DEPARTMENT OF TRANSPORTATION

Federal Aviation Administration

Notice of Opportunity for Public Comment on a Proposed Change of Airport Property Land Use From Aeronautical to Non-Aeronautical Use at Bill and Hillary Clinton National Airport, Little Rock, AR

AGENCY: Federal Aviation Administration (FAA), DOT.

ACTION: Notice.

SUMMARY: The FAA is considering a request from the City of Little Rock-Little Rock Airport Commission to change approximately 21.29 acres, located on the south side of the airport bordered by Grundfest Drive and East Roosevelt Road, from aeronautical use to non-aeronautical use and to authorize the conversion of the airport property.

DATES: Comments must be received on or before October 11, 2022.

ADDRESSES: Send comments on this document to Mr. Glenn Boles, Federal Aviation Administration, Arkansas/Oklahoma Airports District Office Manager, 10101 Hillwood Parkway, Fort Worth, TX 76177. Email: Glenn.A.Boles@faa.gov.

FOR FURTHER INFORMATION CONTACT: Ms. Suzanne Peyton, Director of Properties, Planning and Development, Bill and Hillary Clinton National Airport, One Airport Road, Little Rock, AR 72202, telephone (501) 372-3439. Email: speyton@clintonairport.com; or Mr. Glenn Boles, Federal Aviation Administration, Arkansas/Oklahoma Airports District Office Manager, 10101 Hillwood Parkway, Fort Worth, TX 76177, telephone (817) 222-5639. Email: Glenn.A.Boles@faa.gov.

Documents reflecting this FAA action may be reviewed at the above locations.

SUPPLEMENTARY INFORMATION: The proposal consists of 21.29 acres comprised of portions of two tracts of land, consisting of 9.66 acres within Tract 1 and 11.63 acres within Tract 6. Tract 1 was included in the original airport tract of 802 acres, which was transferred under provisions of the Surplus Act of 1944 to the City of Little Rock in May 1951. Tract 6 which in total is 88.8 acres was purchased with Federal Aid under FAA Grant #9-03-17-C818.

The land comprising these parcels is outside the forecasted need for aviation development and is not needed for indirect or direct aeronautical use. The Airport wishes to develop this land for compatible non-aeronautical use. The Airport will retain ownership of this land and ensure the protection of Part 77 surfaces and compatible land use. The income from the conversion of these parcels will benefit the aviation community by reinvestment in the airport.

Approval does not constitute a commitment by the FAA to financially assist in the conversion of the subject airport property nor a determination of eligibility for grant-in-aid funding from the FAA. The disposition of proceeds from the conversion of the airport property will be in accordance with FAA's Policy and Procedures Concerning the Use of Airport Revenue, published in the Federal Register on February 16, 1999. In accordance with section 47107(h) of Title 49, United States Code, this notice is required to be published in the Federal Register 30 days before modifying the land-use assurance that requires the property to be used for an aeronautical purpose.

Issued in Fort Worth, TX.
Ignacio Flores,
Director, Airports Division, FAA, Southwest Region.

[FR Doc. 2022-19464 Filed 9-8-22; 8:45 am]

BILLING CODE 4910-13-P